DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. State Children's Health Insurance Program Focus Group Study—NEW—As part of an evaluation of the State Children's Health Insurance Program (SCHIP), the Office of the Assistant Secretary for Planning and Evaluation is proposing the collection of qualitative data by conducting a series of 52 focus groups in nine states. The 52 focus groups comprised of low income families will each consist of 8-10 participants. The purpose of this study is to identify factors which influence enrollment in, and disenrollment from Medicaid and SCHIP.

Activity | Number of ­respondents | Time per ­response (minutes) | Frequency | Total burden (hours)
Screen | 6,240 | 6 | 1 | 624
Registration Form | 468 | 5 | 1 | 39
Focus Group | 468 | 150 | 1 | 1,170
Total |  |  |  | 1,833

Send comments to Cynthia Agens Bauer, OS Reports Clearance Officer, Room 503H, Humphrey Building, 200 Independence Avenue SW., Washington, DC 20201. Written comments should be received within 60 days of this notice.

Dated: February 21, 2001.
Kerry Weems,
Acting Deputy Assistant Secretary, Budget.

[FR Doc. 01-4926 Filed 3-2-01; 8:45 am]

BILLING CODE 4154-05-M